NUCLEAR REGULATORY COMMISSION

[Docket No. 70-3103; NRC-2010-0264]

Uranium Enrichment Fuel Cycle Facility Inspection Reports Regarding Louisiana Energy Services LLC, National Enrichment Facility, Eunice, NM, Prior to the Commencement of Operations

AGENCY: Nuclear Regulatory Commission.

ACTION: Notice of availability.

FOR FURTHER INFORMATION CONTACT: Michael Raddatz, Project Manager, Office of Nuclear Material Safety and Safeguards, U.S. Nuclear Regulatory Commission, Rockville, Maryland 20852; telephone: 301-492-3108; or email to: Michael.Raddatz@nrc.gov.

SUPPLEMENTARY INFORMATION:

I. Introduction

The U.S. Nuclear Regulatory Commission (NRC or the Commission) has conducted inspections of the Louisiana Energy Services (LES), LLC, National Enrichment Facility in Eunice, New Mexico, and has verified that cascades numbered 1.9, 1.10, 1.11, 1.12, 2.2, 2.3, 2.5, 2.6, 2.7, 2.8, 2.10, 2.11, 2.12, and 3.1 of the facility have been constructed in accordance with the requirements of the approved license. The NRC staff has prepared inspection reports documenting its findings in accordance with the requirements of the NRC Inspection Manual. As a result of these inspections, on March 14, 2012, the Commission authorized the licensee to start operation of cascades numbered 2.2, 2.3, and 2.5. On March 19, 2012, the Commission authorized the licensee to start operation of cascade number 2.6. On March 27, 2012, the Commission authorized the licensee to start operation of cascades numbered 2.7 and 2.8. On May 24, 2012, the Commission authorized the licensee to start operation of cascade number 1.9. On May 31, 2012, the Commission authorized the licensee to start operation of cascade number 1.10. On June 27, 2012, the Commission authorized the licensee to start operation of cascade number 1.11. On July 9, 2012 (clarified by letter July 16, 2012), the Commission authorized the licensee to start operation of cascade number 2.12. On August 9, 2012, the Commission authorized the licensee to start operation of cascade number 1.12. On August 14, 2012, the Commission authorized the licensee to start operation of cascade number 3.1. On August 24, 2012, the Commission authorized the licensee to start operation of cascade number 2.11. Finally, on September 14, 2012, the Commission authorized the licensee to start operation of cascade number 2.10. The publication of this Notice satisfies the requirements of Title 10 of the Code of Federal Regulations (10 CFR) 70.32 (k) and section 193(c) of the Atomic Energy Act of 1954, as amended.

The introduction of uranium hexafluoride into any module of the National Enrichment Facility is not permitted until the Commission completes an operational readiness and management measures verification review to verify that management measures that ensure compliance with the performance requirements of 10 CFR 70.61 have been implemented and confirms that the facility has been constructed in accordance with the license and will be operated safely. Subsequent operational readiness and management measures verification reviews will continue throughout the various phases of plant construction and, upon completion of these subsequent phases, additional notices will be posted to verify that the phase in question has been constructed in accordance with the license and to acknowledge licensee readiness for operations.

II. Further Information

Documents related to this action are available online at the NRC Library at http://www.nrc.gov/reading-rm/adams.html. From this site, you can access the NRC's Agencywide Documents Access and Management System (ADAMS), which provides text and image files of NRC's public documents. The ADAMS accession numbers for the documents related to this document are:

Inspection report numbers | Date | ADAMS accession No.
70-3103/2006-001 | January 19, 2007 | ML070190661.
70-3103/2007-001 | May 24, 2007 | ML071440430.
70-3103/2007-002 | August 16, 2007 | ML072280647.
70-3103/2007-003 | November 2, 2007 | ML073060571.
70-3103/2007-004 | March 7, 2008 | ML080670475.
70-3103/2008-001 | April 24, 2008 | ML081160345.
70-3103/2008-002 | July 10, 2008 | ML081930118.
70-3103/2008-003 | October 30, 2008 | ML083040618.
70-3103/2008-004 | December 19, 2008 | ML083540709.
70-3103/2008-006 | March 20, 2009 | ML090790642.
70-3103/2009-001 | March 26, 2009 | ML090850669.
70-3103/2009-002 | June 26, 2009 | ML091770643.
70-3103/2009-003 | September 30, 2009 | ML092730612.
70-3103/2009-004 | December 17, 2009 | ML093511013.
70-3103/2009-006 | October 8, 2009 | ML092820188.
70-3103/2010-005 | March 26, 2010 | ML100850424.
70-3103/2010-012 | July 21, 2010 | ML102020385.
70-3103/2011-002 | April 29, 2011 | ML111190268.
70-3103/2011-003 | July 26, 2011 | ML112070634.
70-3103/2011-004 | October 28, 2011 | ML11301A218.
70-3103/2012-002 | April 30, 2012 | ML12121A579.
70-3103/2012-003 | July 6, 2012 | ML12188A105.
70-3103/2012-004 |  | Pending.

If you do not have access to ADAMS or if there are problems in accessing the documents located in ADAMS, contact the NRC Public Document Room (PDR) Reference staff at 1-800-397-4209, 301-415-4737, or by email to pdr.resource@nrc.gov.

These documents may also be viewed electronically on the public computers located at the NRC's PDR, O 1 F21, One White Flint North, 11555 Rockville Pike, Rockville, MD 20852. The PDR reproduction contractor will copy documents for a fee.

Dated at Rockville, Maryland this 19th day of October 2012.
For the U.S. Nuclear Regulatory Commission
Brian W. Smith,
Chief, Uranium Enrichment Branch, Division of Fuel Cycle Safety and Safeguards, Office of Nuclear Material Safety and Safeguards.

[FR Doc. 2012-26630 Filed 10-29-12; 8:45 am]

BILLING CODE 7590-01-P